DEPARTMENT OF THE INTERIOR

National Park Service

[NPS-WASO-BSAD-CONC-21740; PPWOBSADC0, PPMVSCS1Y.Y00000 (166)]

Proposed Information Collection; National Park Service Leasing Program

AGENCY: National Park Service, Interior.

ACTION: Notice; request for comments.

SUMMARY: We (National Park Service, NPS) will ask the Office of Management and Budget (OMB) to approve the information collection (IC) described below. To comply with the Paperwork Reduction Act of 1995 and as a part of our continuing efforts to reduce paperwork and respondent burden, we invite the general public and other Federal agencies to comment on this IC. This IC is scheduled to expire on May 31, 2017. We may not conduct or sponsor and a person is not required to respond to a collection unless it displays a currently valid OMB control number.

DATES: Please submit your comment on or before November 7, 2016.

ADDRESSES: Please send your comments on the ICR to Madonna L. Baucum, Information Collection Clearance Officer, National Park Service, 12201 Sunrise Valley Drive, Mail Stop 242, Reston, VA 20192 (mail); or madonna_baucum@nps.gov (email). Please reference “1024-0233 Leasing Program” in the subject line.

FOR FURTHER INFORMATION CONTACT: Gordy Kito, Leasing Program Manager, Commercial Services Division, National Park Service, 1201 I Street NW., Washington, DC 20005 (mail); gordy_kito@nps.gov (email); or (202) 354-2096 (phone).

SUPPLEMENTARY INFORMATION:

I. Abstract

The National Park Service leasing program allows any person or governmental entity to lease buildings and associated property, administered by the Secretary of the Interior as part of the National Park System, under the authority of the Director of the National Park Service. A lease may not authorize an activity that could be authorized by a concessions contract or commercial use authorization. All leases must provide for the payment of fair market value rent. The Director may retain rental payments for park infrastructure needs and, in some cases, to provide administrative support of the leasing program.

Our authority to collect information for the leasing program is derived from Title 54, United States Code, section 102101 et seq. (54 U.S.C. 102101 et seq.), Title 54 of the United States Code, section 306121 (54 U.S.C. 306121), and Title 36, Code of Federal Regulations, Part 18 (36 CFR part 18). For competitive leasing opportunities, the regulations require the submission of proposals or bids by parties interested in applying for a lease. The regulations also require that the Director approve lease amendments, construction or demolition of structures, and encumbrances on leasehold interests.

We collect Information from anyone who wishes to submit a bid or proposal to lease a property. The Director may issue a request for bids if the amount of rent is the only criterion for award of a lease. The Director issues a request for proposals when the award of a lease is based on selection criteria other than the rental rate. A request for proposals may be preceded by a request for qualifications to select a “short list” of potential offerors that meet minimum management, financial, and other qualifications necessary for submission of a proposal.

The Director may enter into negotiations for a lease with nonprofit organizations and units of government without soliciting proposals or bids. In those cases, the Director collects information from the other party regarding the planned use of the premises, potential modifications to the premises, and other information as necessary to support a decision on whether or not to enter into a lease.

We also collect Information from existing leaseholders who seek to:

• Sublet a leased property or assign the lease to a new lessee.

• Construct or demolish portions of a leased property.

• Amend a lease to change the type of activities permitted under the lease.

• Encumber (mortgage) the leased premises.

We use the information to evaluate offers, proposed subleases or assignments, proposed construction or demolition, the merits of proposed lease amendments, and proposed encumbrances. The completion times for each information collection requirement vary substantially depending on the complexity of the leasing opportunity.

II. Data

OMB Control Number: 1024-0233.

Title: National Park Service Leasing Program, 36 CFR 18.

Service Form Number(s): None.

Type of Request: Extension of a currently approved collection.

Description of Respondents: Individuals and businesses.

Respondent's Obligation: Required to obtain or retain a benefit.

Frequency of Collection: On occasion.

Activity | Total annual responses | Completion time per response (hours) | Total annual burden hours
Requests for Qualifications/Requests for Proposals/Requests for Bids—Simple | 10 | 8 | 80
Requests for Qualifications/Requests for Proposals—Complex | 10 | 40 | 400
Lessee Construction/Demolition—Simple | 1 | 12 | 12
Lessee Construction/Demolition—Complex | 2 | 32 | 64
Lease Amendments | 2 | 4 | 8
Lessee Encumbrances—Simple | 2 | 8 | 16
Lessee Encumbrances—Complex | 2 | 40 | 80
Subletting and Assignment of Leases—Simple | 4 | 8 | 32
Subletting and Assignment of Leases—Complex | 1 | 40 | 40
Totals | 34 |  | 732

Estimated Annual Nonhour Burden Cost: None.

III. Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: September 1, 2016.
Madonna L. Baucum,
Information Collection Clearance Officer, National Park Service.

[FR Doc. 2016-21572 Filed 9-7-16; 8:45 am]

BILLING CODE 4310-EH-P